SECURITIES AND EXCHANGE COMMISSION

[Release No. 34-57298A; File No. SR-DTC-2007-13]

Self-Regulatory Organizations; The Depository Trust Company; Order Granting Approval of a Proposed Rule Change Relating to the Foreign Currency Payment Option

February 8, 2008.

Correction

In FR Doc. No. E8-2823, beginning on page 8921, the date was incorrectly stated as February 8, 2007. The correct date appears above.

Florence E. Harmon,
Deputy Secretary.

[FR Doc. E8-3307 Filed 2-21-08; 8:45 am]

BILLING CODE 8011-01-P